DEPARTMENT OF JUSTICE

National Institute of Corrections

Advisory Board Meeting

Time and Date: 8:30 a.m. to 4:30 p.m. on Monday, November 5, 2001 & 8:30 a.m. to 12 noon on Tuesday, November 6, 2001.

Place: Washington Court Hotel on Capitol Hill, 525 New Jersey Avenue NW., Washington, DC 20001.

Status: Open.

Matters To Be Considered: Division Reports, Updates on Strategic Planning, Interstate Compact Activities, and Plan Colombia; Presentations on Violation/Revocation/Reentry and Job Stress in Corrections; and Report on Institutional Cultural Project.

Contact Person for More Information: Larry Solomon, Deputy Director, 202-307-3106, ext. 155.

Morris L. Thigpen,
Director.

[FR Doc. 01-22531 Filed 9-6-01; 8:45 am]

BILLING CODE 4410-36-M